DEPARTMENT OF ENERGY

Federal Energy Regulatory Commission

[Docket No. Ic19-16-000]

Commission Information Collection Activities (Ferc-556); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection FERC-556 (Certification of Qualifying Facility (QF) Status for a Small Power Production or Cogeneration Facility) and submitting the information collection to the Office of Management and Budget (OMB) for review. Any interested person may file comments directly with OMB and should address a copy of those comments to the Commission as explained below. On March 14, 2019, the Commission published a Notice in the Federal Register in Docket No. IC19-16-000 requesting public comments. The Commission received no public comments, as stated in the related submittal to OMB.

DATES: Comments on the collection of information are due June 21, 2019.

ADDRESSES: Comments filed with OMB, identified by OMB Control No. 1902-0075, should be sent via email to the Office of Information and Regulatory Affairs: oira_submission@omb.gov. Attention: Federal Energy Regulatory Commission Desk Officer.

A copy of the comments should also be sent to the Commission, in Docket No. IC19-16-000, by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-556, Certification of Qualifying Facility (QF) Status for a Small Power Production or Cogeneration Facility.

OMB Control No.: 1902-0075.

Type of Request: Three-year extension of the FERC-556 information collection requirements with no changes to the current reporting and recordkeeping requirements.

Abstract: Form No. 556 is required to implement sections 201 and 210 of the Public Utility Regulatory Policies Act of 1978 ¹ (PURPA). FERC is authorized, under those sections, to encourage cogeneration and small power production and to prescribe such rules as necessary in order to carry out the statutory directives.

¹ 16 U.S.C. 796, 824a-3.

A primary statutory objective is efficient use of energy resources and facilities by electric utilities. One means of achieving this goal is to encourage production of electric power by cogeneration facilities which make use of reject heat associated with commercial or industrial processes, and by small power production facilities which use other wastes and renewable resources. PURPA encourages the development of small power production facilities and cogeneration facilities that meet certain technical and corporate criteria through establishment of various regulatory benefits. Facilities that meet these criteria are called Qualifying Facilities (QFs).

FERC's regulations in 18 CFR part 292, as relevant here, specify: (a) The certification procedures which must be followed by owners or operators of small power production and cogeneration facilities; (b) the criteria which must be met; (c) the information which must be submitted to FERC in order to obtain qualifying status; and (d) the PURPA benefits which are available to QFs to encourage small power production and cogeneration.

18 CFR part 292 also exempts QFs from certain corporate, accounting, reporting, and rate regulation requirements of the Federal Power Act,² certain state laws, and the Public Utility Holding Company Act of 2005.³

² 16 U.S.C. 791, et seq.

³ 42 U.S.C. 16, 451-63.

Type of Respondents: Facilities that are self-certifying their status as a cogenerator or small power producer or that are submitting an application for FERC certification of their status as a cogenerator or small power producer.

Estimate of Annual Burden: ⁴ The Commission estimates the burden and cost for this information collection as follows:

⁴ “Burden” is the total time, effort, or financial resources expended by persons to generate, maintain, retain, or disclose or provide information to or for a Federal agency. For further explanation of what is included in the information collection burden, refer to Title 5 Code of Federal Regulations 1320.3.

FERC-556—Certification of Qualifying Facility Status for a Small Power Production or Cogeneration Facility
Facility type | Filing type | Number of respondents | Annual number of responses per respondent | Total number of responses | Average burden hours & cost per response ⁵ | Total annual burden hours & total annual cost (rounded) | Cost per respondent ($) (rounded)
|  | (1) | (2) | (1) * (2) = (3) | (4) | (3) * (4) = (5) | (5) ÷ (1)
Cogeneration Facility >1 MW ⁶ | Self-certification | 63 | 1.25 | 78.75 | 1.5 hrs.; $118.5 | 118.125 hrs.; $9,332 | $148
Cogeneration Facility >1 MW | Application for FERC certification | 1 | 1.25 | 1.25 | 50 hrs.; $3,950 | 62.5 hrs.; $4,938 | 4,938
Small Power Production Facility >1 MW | Self-certification | 2,698 | 1.25 | 3,372.5 | 1.5 hrs.; $118.5 | 5,058.75 hrs.; $399,641 | 148
Small Power Production Facility >1 MW | Application for FERC certification | 0 | 1.25 | 0 | 50 hrs.; $3,950 | 0 hrs.; $0 | 0
Cogeneration and Small Power Production Facility ≤1 MW (Self-Certification) ⁷ | Self-certification | 692 | 1.25 | 865 | 1.5 hrs.; $118.5 | 1,297.5 hrs.; $102,503 | 148
Total |  | 3,454 |  | 4,317.5 |  | 6,536.875 hrs.; $516,413.13 |

The estimated burden in the Paperwork Reduction Act Notice on page 1 of the FERC Form 556 will be corrected to provide the current burden estimates (shown above). It will read “[t]he estimated burden for completing the FERC Form No. 556, including gathering and reporting information, is as follows: 1.5 hours for self-certification of a small power production facility, 1.5 hours for self-certifications of a cogeneration facility, 50 hours for an application for Commission certification of a small power production facility, and 50 hours for an application for Commission certification of a cogeneration facility.” The reporting requirements are not changing.

⁵ The Commission staff believes that industry is similarly situated in terms of wages and benefits. Therefore, cost estimates are based on FERC's 2018 average annual wage (and benefits) for a full-time employee of $164,820 (or $79.00/hour).

⁶ MW = megawatt.

⁷ Not required to file.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 15, 2019.
Kimberly D. Bose,
Secretary.

[FR Doc. 2019-10599 Filed 5-21-19; 8:45 am]

BILLING CODE 6717-01-P